NATIONAL CAPITAL PLANNING COMMISSION

Notice of Public Comment Period and Public Meetings on the Parks and Open Space Element of the Comprehensive Plan for the National Capital

AGENCY: National Capital Planning Commission.

ACTION: Notice of 60-day public comment period and public meetings.

SUMMARY: The National Capital Planning Commission (NCPC) has released a draft of the Parks and Open Space Element (Element) of the Comprehensive Plan for the National Capital: Federal Elements for public review. The Element articulates policies that protect and enhance the National Capital Region's parks and open space system while providing recreational, ecological, social, and educational benefits for visitors, residents, workers, and future generations. The draft is available online for review at https://www.ncpc.gov/initiatives/openspace/.

Dates and Time: The public comment period closes May 7, 2018.

Public Meetings: NCPC will host two open house events for the public to learn more about the Element. The first open house will be on March 21, 2018 from 6:00 p.m. to 7:30 p.m. The second open house will be April 12, 2018 from 10:30 a.m. to 12:00 p.m. The meetings will be held at NCPC (same address as that to which written comments may be addressed below).

ADDRESSES: Written public comments on the draft may be submitted by either method:

1. U.S. mail, courier, or hand deliver: Parks & Open Space Public Comment, National Capital Planning Commission, 401 9th Street NW, Suite 500N, Washington, DC 20004.

2. Electronically: https://www.ncpc.gov/initiatives/openspace/comment/.

FOR FURTHER INFORMATION CONTACT: Surina Singh at (202) 482-7233 or info@ncpc.gov.

Authority: 40 U.S.C. 8721(e)(2).

Dated: March 2, 2018.
Anne R. Schuyler,
General Counsel.

[FR Doc. 2018-04669 Filed 3-7-18; 8:45 am]

BILLING CODE P